DEPARTMENT OF HEALTH AND HUMAN SERVICES

Centers for Disease Control and Prevention

[60-Day-10-10EG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Audience Analysis for Biomonitoring—New—National Center for Environmental Health/Agency for Toxic Substances and Disease Registry (NCEH/ATSDR), Centers for Disease Control and Prevention (CDC).

Background and Brief Description

People's exposure to environmental chemicals can be a risk to their health. Scientists at the CDC use biomonitoring, which is the measurement of environmental chemicals in human tissues and fluids, to assess such exposure. Biomonitoring findings, however, do not typically provide information on health risks and toxicity data often lag behind new biomonitoring data. The health effects on humans are, therefore, often uncertain or unknown, particularly, for many new or “emerging” chemicals. Nevertheless, communicating biomonitoring findings for those charged with this task is necessary, especially due to the growing media coverage and public concern about chemicals found in the human body. The demand for answers and decreasing patience with uncertainty characterizes the interpretation of such results. This poses enormous challenges to those tasked to communicate such findings to both scientific and non-scientific audiences without a biomonitoring background.

The CDC is, therefore, interested in developing a framework for communicating health risk messages, particularly about emerging environmental chemicals, to the attentive public audience such as selected women who are pregnant or have very young children. The three environmental chemicals, Bisphenol A (BPA), phthalates, and mercury have been selected for this study. They are of particular interest to these selected women as the risks of exposure are higher for very young children because of their hand-to-mouth behaviors and direct oral (mouth) contact with materials containing these chemicals. Furthermore, young children eat and drink more per pound of body weight than adults.

Focus groups will be conducted in different parts of the country with selected women. During phase one, eight exploratory focus groups will be conducted to develop messaging strategies and the results will be used in the development of preliminary messages about the emerging chemicals. The second phase will include six message testing focus groups to determine which messages are most attractive and compelling in terms of communicating health risk information about emerging chemicals.

Participants will be recruited via standard focus group recruitment methods. Most will come from an existing database (or list) of potential participants maintained by the focus group facility. There is no cost to respondents.

Estimated Annualized Burden Hours
Respondents | Number of respondents | Number of responses per respondent | Average burden per response (in hours) | Total burden (in hours)
Recruitment screener | 252 | 1 | 5/60 | 21
Exploratory Focus Groups | 72 | 1 | 2 | 144
Message Testing Focus Groups | 54 | 1 | 2 | 108
Total |  |  |  | 273

Dated: June 3, 2010.
Maryam I. Daneshvar,
Reports Clearance Officer, Centers for Disease Control and Prevention.

[FR Doc. 2010-14873 Filed 6-18-10; 8:45 am]

BILLING CODE 4163-18-P